DEPARTMENT OF ENERGY

Federal Energy Regulatory Commission

Combined Notice of Filings #2

Take notice that the Commission received the following electric rate filings:

Docket Numbers: ER12-1470-012; ER18-836-005; ER16-1833-007; ER10-3026-010.

Applicants: Termoelectrica U.S., LLC, Sempra Gas & Power Marketing, LLC, Energia Sierra Juarez 2 U.S., LLC, Energia Sierra Juarez U.S., LLC.

Description: Notice of Change in Status of Energia Sierra Juarez U.S., LLC, et al.

Filed Date: 3/3/22.

Accession Number: 20220303-5227.

Comment Date: 5 p.m. ET 3/24/22.

Docket Numbers: ER14-41-006; ER14-42-006; ER16-498-005; ER16-499-005; ER16-500-005; ER20-547-005; ER20-2448-001; ER21-133-001; ER21-736-002; ER21-1962-002.

Applicants: Mulberry BESS LLC, RE Slate 1 LLC, HDSI, LLC, American Kings Solar, LLC, Goldman Sachs Renewable Power Marketing LLC, RE Mustang 4 LLC, RE Mustang 3 LLC, RE Mustang LLC, RE Rosamond Two LLC, RE Rosamond One LLC.

Description: Notice of Non-Material Change in Status of Goldman Sachs Renewable Power Marketing LLC, et al.

Filed Date: 3/3/22.

Accession Number: 20220303-5175.

Comment Date: 5 p.m. ET 3/24/22.

Docket Numbers: ER15-1418-014; ER15-1883-014; ER19-1073-006; ER21-2304-002; ER21-2294-002; ER22-415-002; ER18-2118-012; ER19-2373-007; ER10-2005-024; ER11-26-024; ER20-2179-006; ER21-1990-002; ER16-91-014; ER16-632-013; ER20-819-007; ER20-820-006; ER21-2674-001; ER16-2453-017; ER16-2191-016; ER16-2190-016; ER15-1925-020; ER19-2901-007; ER10-1841-024; ER15-2582-010; ER18-1978-009; ER15-2676-019; ER20-2049-004; ER20-1980-005; ER20-1987-006; ER16-1672-017; ER20-1769-005; ER13-712-028; ER18-1863-009; ER21-1519-001; ER17-804-001; ER17-2152-013; ER20-122-005; ER19-2461-007; ER19-987-011; ER19-1003-011; ER21-1320-002; ER20-1986-004; ER13-1991-019; ER13-1992-019; ER21-2118-002; ER19-2269-006; ER22-381-002; ER18-1534-009; ER18-882-012; ER10-1849-026; ER21-1682-001; ER19-2437-007; ER19-1393-011; ER19-1394-011; ER13-752-016; ER12-2227-025; ER10-1851-015; ER21-1879-002; ER21-2293-002; ER10-1852-057; ER10-1857-017.

Applicants: FPL Energy Cape, LLC, Florida Power & Light Company, Fish Springs Ranch Solar, LLC, Farmington Solar, LLC, ESI Vansycle Partners, L.P., Ensign Wind, LLC, Energy Storage Holdings, LLC, Endeavor Wind II, LLC, Endeavor Wind I, LLC, Emmons-Logan Wind, LLC, Elora Solar, LLC, Elk City Wind, LLC, Elk City Renewables II, LLC, East Hampton Energy Storage Center, LLC, Dunns Bridge Solar Center, LLC, Dougherty County Solar, LLC, Dodge Flat Solar, LLC, Desert Sunlight 300, LLC, Desert Sunlight 250, LLC, Day County Wind I, LLC, Crystal Lake Wind Energy III, LLC, Crystal Lake Wind Energy II, LLC, Crystal Lake Wind Energy I, LLC, Crowned Ridge Wind, LLC, Crowned Ridge Interconnection, LLC, Cottonwood Wind Project, LLC, Coram California Development, L.P., Cool Springs Solar, LLC, Coolidge Solar I, LLC, Cimarron Wind Energy, LLC, Chicot Solar, LLC, Chaves County Solar, LLC, Cerro Gordo Wind, LLC, Cedar Springs Wind, LLC, Cedar Springs Wind III, LLC, Cedar Bluff Wind, LLC, Casa Mesa Wind, LLC, Carousel Wind Farm, LLC, Butler Ridge Wind Energy Center, LLC, Bronco Plains Wind, LLC, Breckinridge Wind Project, LLC, Brady Wind, LLC, Brady Wind II, LLC, Brady Interconnection, LLC, Borderlands Wind, LLC, Blythe Solar IV, LLC, Blythe Solar III, LLC, Blythe Solar II, LLC, Blythe Solar 110, LLC, Blackwell Wind Energy, LLC, Baldwin Wind Energy, LLC, Ashtabula Wind III, LLC, Ashtabula Wind II, LLC, Ashtabula Wind I, LLC ,Armadillo Flats Wind Project, LLC, Arlington Energy Center III, LLC, Arlington Energy Center II, LLC, Arlington Solar, LLC, Alta Wind VIII, LLC, Adelanto Solar, LLC, Adelanto Solar II, LLC.

Description: Notice of Change in Status of NextEra Companies, et al. (Part 1 of 4).

Filed Date: 3/2/22.

Accession Number: 20220302-5298.

Comment Date: 5 p.m. ET 3/23/22.

Docket Numbers: ER16-581-009; ER16-582-009; ER16-2271-008; ER17-1370-008; ER19-828-005; ER20-539-005; ER20-1338-004; ER20-2505-003; ER21-1254-003; ER21-1498-001; ER21-2204-002.

Applicants: ENGIE Power & Gas LLC, Hawtree Creek Farm Solar, LLC, Genbright LLC, Triple H Wind Project, LLC, King Plains Wind Project, LLC, East Fork Wind Project, LLC, Solomon Forks Wind Project, LLC, ENGIE Energy Marketing NA, Inc., ENGIE Resources LLC, ENGIE Retail, LLC, ENGIE Portfolio Management, LLC.

Description: Notice of Change in Status of ENGIE Portfolio Management, LLC, et al.

Filed Date: 3/3/22.

Accession Number: 20220303-5229.

Comment Date: 5 p.m. ET 3/24/22.

Docket Numbers: ER17-1531-006.

Applicants: CPV Fairview, LLC.

Description: Notice of Change in Status of CPV Fairview, LLC, et al.

Filed Date: 3/3/22.

Accession Number: 20220303-5183.

Comment Date: 5 p.m. ET 3/24/22.

Docket Numbers: ER18-1863-010; ER10-1852-058; ER10-1857-018; ER10-1935-019; ER10-1932-018; ER13-2147-005; ER11-4462-059; ER17-838-034; ER10-1973-016; ER10-1951-037; ER10-1974-027; ER21-183-002; ER20-2153-005; ER21-744-002.

Applicants: Wallingford Renewable Energy LLC, Sanford Airport Solar, LLC, Nutmeg Solar, LLC, Northeast Energy Associates, L.P., NextEra Energy Services Massachusetts, LLC, NextEra Energy Seabrook, LLC, NextEra Energy Marketing, LLC, NEPM II, LLC, Frontier Utilities New York LLC, FPL Energy Wyman, LLC, FPL Energy Wyman IV, LLC, FPL Energy Cape, LLC, Florida Power & Light Company, Coolidge Solar I, LLC.

Description: Notice of Change in Status of Coolidge Solar I, LLC, et al.

Filed Date: 3/3/22.

Accession Number: 20220303-5216.

Comment Date: 5 p.m. ET 3/24/22.

Docket Numbers: ER18-2511-002.

Applicants: NorthWestern Corporation.

Description: Notice of Change in Status of NorthWestern Corporation.

Filed Date: 3/3/22.

Accession Number: 20220303-5221.

Comment Date: 5 p.m. ET 3/24/22.

Docket Numbers: ER19-2269-000; ER19-2269-005; ER10-1852-000; ER18-1952-000; ER16-1354-000; ER11-4462-000; ER17-838-000; ER10-1951-000; ER19-2266-000; ER16-1293-000; ER16-1277-000; ER10-1852-056; ER18-1852-001; ER16-1354-011; ER11-4462-058; ER17-838-033; ER10-1951-036; ER19-2266-005; ER16-1293-012; ER16-1277-012.

Applicants: White Pine Solar, LLC, White Oak Solar, LLC, Quitman Solar, LLC, NextEra Energy Services Massachusetts, LLC, NextEra Energy Marketing, LLC, NEPM II, LLC, Live Oak Solar, LLC, Gulf Power Company, Florida Power & Light Company, Dougherty County Solar, LLC.

Description: Notice of Change in Status of Dougherty County Solar, LLC, et al.

Filed Date: 3/3/22.

Accession Number: 20220303-5204.

Comment Date: 5 p.m. ET 3/24/22.

Docket Numbers: ER20-391-005.

Applicants: J. Aron & Company LLC.

Description: Notice of Non-Material Change in Status of J. Aron & Company LLC.

Filed Date: 3/3/22.

Accession Number: 20220303-5194.

Comment Date: 5 p.m. ET 3/24/22.

Docket Numbers: ER20-2380-005; ER20-2153-006; ER14-2709-022; ER15-30-020; ER14-2708-023; ER15-1016-013; ER21-1506-003; ER18-2314-007; ER15-2243-011; ER20-2603-005; ER21-1580-003; ER20-2597-005; ER20-780-005; ER19-774-008; ER13-2474-021; ER19-2382-007; ER17-2270-015; ER21-255-005; ER18-2091-009; ER12-1660-023; ER13-2458-018; ER11-4678-020; ER21-744-003; ER20-2237-005; ER19-2495-007; ER17-582-011; ER21-2109-002; ER20-2070-004; ER10-2078-024; ER16-1293-013; ER16-1277-013; ER17-583-011; ER18-2032-011; ER20-2622-005; ER20-637-005; ER19-2513-007; ER12-631-021; ER19-1076-006; ER21-1813-004; ER21-1814-004.

Applicants: Yellow Pine Energy Center II, LLC, Yellow Pine Energy Center I, LLC, Windstar Energy, LLC, Windpower Partners 1993, LLC, Wilton Wind Energy II, LLC, Wilton Wind Energy I, LLC, Wilmot Energy Center, LLC, Wildcat Ranch Wind Project, LLC, Whitney Point Solar, LLC, White Pine Solar, LLC, White Oak Solar, LLC, White Oak Energy LLC, Wheatridge Wind II, LLC, Wheatridge Solar Energy Center, LLC, Westside Solar, LLC, Wessington Springs Wind, LLC, Weatherford Wind, LLC, Wallingford Renewable Energy LLC, Vasco Winds, LLC, Tuscola Wind II, LLC, Tuscola Bay Wind, LLC, Titan Solar, LLC, Taylor Creek Solar, LLC, Stuttgart Solar, LLC, Story County Wind, LLC, Steele Flats Wind Project, LLC, Stanton Clean Energy, LLC, Sooner Wind, LLC, Soldier Creek Wind, LLC, Sky River Wind, LLC, Skeleton Creek Wind, LLC, Silver State Solar Power South, LLC, Sholes Wind Energy, LLC, Shaw Creek Solar, LLC, Shafter Solar, LLC, Seiling Wind, LLC, Seiling Wind Interconnection Services, LLC, Seiling Wind II, LLC, Sanford Airport Solar, LLC, Saint Solar, LLC.

Description: Notice of Change in Status of NextEra Companies, et al. (Part 4 of 4).

Filed Date: 3/2/22.

Accession Number: 20220302-5302.

Comment Date: 5 p.m. ET 3/23/22.

Docket Numbers: ER21-714-003.

Applicants: Indiana Crossroads Wind Farm LLC.

Description: Notice of Non-Material Change in Status of Indiana Crossroads Wind Farm LLC.

Filed Date: 3/3/22.

Accession Number: 20220303-5207.

Comment Date: 5 p.m. ET 3/24/22.

Docket Numbers: ER21-1990-000; ER21-1990-003; ER21-2674-000; ER21-1519-000; ER21-2118-000; ER21-1682-000; ER21-2296-000; ER21-1879-000; ER21-2293-000; ER21-1953-000; ER21-2225-000; ER21-2117-000; ER21-2149-000; ER21-2699-000; ER21-1880-000; ER21-2100-000; ER21-2641-000; ER21-1532-000; ER22-96-000; ER21-2048-000; ER21-1580-000; ER21-2109-000; ER21-1519-002; ER21-1532-001; ER21-1580-002; ER21-1682-002; ER21-1879-003; ER21-1880-001; ER21-1953-002; ER21-2048-002; ER21-2100-002; ER21-2109-001; ER21-2117-002; ER21-2118-003; ER21-2149-002; ER21-2225-002; ER21-2293-003; ER21-2296-002; ER21-2641-001; ER21-2674-002; ER21-2699-002; ER22-96-001.

Applicants: Wheatridge Solar Energy Center, LLC, Sky River Wind, LLC, Sac County Wind, LLC, Route 66 Solar Energy Center, LLC, Quitman II Solar, LLC, Quinebaug Solar, LLC, Point Beach Solar, LLC, Niyol Wind, LLC, Minco Wind Energy III, LLC, Minco Wind Energy II, LLC, Little Blue Wind Project, LLC, Irish Creek Wind, LLC, Heartland Divide Wind II, LLC, Fish Springs Ranch Solar, LLC, Farmington Solar, LLC, Ensign Wind Energy, LLC, Elora Solar, LLC, Dodge Flat Solar, LLC, Cool Springs Solar, LLC, Borderlands Wind, LLC, Blackwell Wind Energy, LLC.

Description: Notice of Change in Status of Cool Springs Solar, LLC, et al.

Filed Date: 3/3/22.

Accession Number: 20220303-5213.

Comment Date: 5 p.m. ET 3/24/22.

Docket Numbers: ER21-2426-001.

Applicants: CPRE 1 Lessee, LLC.

Description: Compliance filing: Broad River Solar, LLC submits tariff filing per 35: Non-Material Change in Status to be effective 5/3/2022.

Filed Date: 3/4/22.

Accession Number: 20220304-5149.

Comment Date: 5 p.m. ET 3/25/22.

Docket Numbers: ER21-2445-001.

Applicants: Glacier Sands Wind Power, LLC.

Description: Amendment to March 1, 2022 Notice of Non-Material Change in Status of Glacier Sands Wind Power, LLC.

Filed Date: 3/3/22.

Accession Number: 20220303-5208.

Comment Date: 5 p.m. ET 3/24/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 4, 2022.
Kimberly D. Bose,
Secretary.

[FR Doc. 2022-05058 Filed 3-9-22; 8:45 am]

BILLING CODE 6717-01-P